DEPARTMENT OF HOMELAND SECURITY

Coast Guard

33 CFR Part 165

[Docket No. USCG-2021-0259]

Safety Zone; FKCC Swim Around Key West, Key West, FL

AGENCY: Coast Guard, DHS.

ACTION: Notice of enforcement of regulation.

SUMMARY: The Coast Guard will enforce the safety zone for the FKCC Swim Around Key West, Key West, Florida from 9 a.m. until 5 p.m. on June 12, 2021. Our regulation for recurring safety zones within the Captain of the Port Key West Zone identifies the regulated area for this event. This action is necessary to ensure the safety of event participants and spectators. During the enforcement period, no person or vessel may enter, transit through, anchor in, or remain within the regulated area without approval from the Captain of the Port Key West or a designated representative.

DATES: The regulations in 33 CFR 165.786, Table to § 165.786, Item 6.1, will be enforced from 9 a.m. until 5 p.m. on June 12, 2021.

FOR FURTHER INFORMATION CONTACT: If you have questions on this notice, call or email Gregory Bergstrom, Sector Key West Waterways Management Department, Coast Guard; telephone (305) 292-8772; email Greg.C.Bergstrom@uscg.mil.

SUPPLEMENTARY INFORMATION: The Coast Guard will enforce the safety zone in 33 CFR 165.786, for the Annual Swim Around Key West regulated area from 9 a.m. to 5 p.m. on June 12, 2021. This action is being taken to provide for the safety of life on navigable waterways during this event. Our regulation for recurring marine events within Sector Key West, Table to § 165.786, Item 6.1, specifies the location of the regulated area. During the enforcement period, no person or vessel may enter, transit through, anchor in, or remain within the established regulated areas without approval from the Captain of the Port Key West or designated representative. The Coast Guard may be assisted by other Federal, State, or local law enforcement agencies in enforcing this regulation.

The Coast Guard will provide notice of the regulated area by Local Notice to Mariners and Broadcast Notice to Mariners. If the Captain of the Port Key West determines that the regulated area need not be enforced for the full duration stated in this publication, he or she may use a Broadcast Notice to Mariners to grant general permission to enter the regulated area.

Dated: May 13, 2021.
Adam Chamie,
Captain, U.S. Coast Guard, Captain of the Port Key West.

[FR Doc. 2021-10534 Filed 5-18-21; 8:45 am]

BILLING CODE 9110-04-P